FEDERAL DEPOSIT INSURANCE CORPORATION

[OMB No. 3064-0162; -0179; -0195]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0162; -0179; and -0195).

DATES: Comments must be submitted on or before November 8, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Large-Bank Deposit Insurance Programs.

OMB Number: 3064-0162.

Form Number: None.

Affected Public: Insured depository institutions having at least $2 billion in deposits and at least either: (a) 250,000 Deposit accounts; or (b) $20 billion in total assets, regardless of the number of deposit accounts (a “covered institution”).

Burden Estimate:

Summary of Estimated Annual Burden
[OMB No. 3064-0162]
Information collection (obligation to respond) | Type of burden (frequency of response) | Number of respondents | Number of responses per respondent | Time per response (HH:MM) | Annual burden (hours)
1. Posting and removing provisional holds—Implementation—§ 360.9(c)(1) and (2) (Mandatory) | Recordkeeping (One time) | 8 | 1 | 150:00 | 1,200
2. Providing standard data format for deposit account and customer information—Implementation—§ 360.9(d)(1) (Mandatory) | Recordkeeping (One time) | 8 | 1 | 110:00 | 880
3. Notification of identity of person responsible for producing standard data downloads—Implementation—§ 360.9(c)(3) (Mandatory) | Reporting (One time) | 8 | 1 | 8:00 | 64
4. Provide deposit account and customer information in required standard format—Implementation—§ 360.9(d)(3) (Mandatory) | Reporting (On Occasion) | 8 | 1 | 40:00 | 320
5. Request for exemption from provisional hold requirements—Implementation—§ 360.9(c)(9) (Voluntary) | Reporting (On Occasion) | 1 | 1 | 20:00 | 20
6. Request for extension of compliance deadline—Implementation—§ 360.9(e)(7) (Voluntary) | Reporting (On Occasion) | 1 | 1 | 20:00 | 20
7. Request for exemption—Implementation § 360.9(f) (Voluntary) | Reporting (On Occasion) | 1 | 1 | 20:00 | 20
8. Notification of identity of person responsible for producing standard data downloads—Ongoing—§ 360.9(c)(3) (Mandatory) | Reporting (Annual) | 123 | 1 | 8:00 | 984
9. Request for exemption from provisional hold requirements—Ongoing—§ 360.9(c)(9) (Voluntary) | Reporting (On Occasion) | 1 | 1 | 20:00 | 20
10. Request for exemption—Ongoing—§ 360.9(f) (Voluntary) | Reporting (On Occasion) | 1 | 1 | 20:00 | 20
11. Test compliance with § 360.9 (c) through (d) pursuant to § 360.9(h)—Ongoing—§ 360.9 (h) (Mandatory) | Reporting (Annual) | 30 | 1 | 80:00 | 2,400
Total Annual Burden (Hours): |  |  |  |  | 5,948
Source: FDIC.

General Description of Collection: Upon the failure of an FDIC-insured depository institution, the FDIC is required to pay insured deposits as soon as possible. To do so, the FDIC must be able to quickly determine the total insured amount for each depositor. To make this determination, the FDIC must ascertain the balances of all deposit accounts owned by the same depositor in the same ownership capacity at a failed institution as of the day of failure. The FDIC issued a regulation (12 CFR 360.9) to modernize the process of determining the insurance status of each depositor in the event of failure of a covered institution. The regulations enable operations of a large insured depository institution to continue functioning on the day following failure, support the FDIC’s efforts to fulfill it's legal mandates regarding the resolution of failed insured deposit institutions, and apply to the largest institutions only ($2 billion in domestic deposits or more). More specifically, the regulations require the largest insured depository institutions to adopt mechanisms that would, in the event of the institution's failure (1) provide the FDIC with standard deposit account and customer informaton, and (2) allow the FDIC to place and release holds on liability accounts, including deposits. There is no change in the methodology or substance of this information collection. The decrease in total estimated annual burden from 6,464 hours in 2021 to 5,948 hours currently is due to a decrease in estimated number or respondents.

2. Title: Assessment Rate Adjustment Guidelines for Large and Highly Complex Institutions.

OMB Number: 3064-0179.

Form Number: None.

Affected Public: Large and highly complex depository institutions.

Burden Estimate:

Summary of Estimated Annual Burden
[OMB No. 3064-0179]
Information collection (IC) (obligation to respond) | Type of burden (frequency of response) | Number of respondents | Number of responses per respondent | Time per response (HH:MM) | Annual burden (hours)
1. Assessment Rate Adjustment Guidelines for Large and Highly Complex Institutions, 12 CFR part 327 (Required to obtain or retain benefits) | Reporting (On occasion) | 1 | 1 | 80:00 | 80
Total Annual Burden (Hours): |  |  |  |  | 80

General Description of Collection: The FDIC's deposit insurance assessment authority is set forth in section 7 of the Federal Deposit Insurance Act, 12 U.S.C. 1817(b) and (c), and promulgated in regulations under 12 CFR part 327. These regulations also set out the process for making adjustments to the total score of these institutions used by the FDIC in making deposit insurance assessments. Depository institutions are permitted to make a written request to the FDIC for an assessment adjustment. An institution is able to request review of, or appeal, an upward adjustment, the magnitude of an upward adjustment, removal of a previously implemented downward adjustment or an increase in a previously implemented upward adjustment through the FDIC's internal review process set forth at 12 CFR 327.4(c). An institution can similarly request review of or appeal a decision not to apply an adjustment following a request by the institution for an adjustment. An institution can submit its written request for an adjustment to the FDIC's Director of the Division of Insurance and Research in Washington, DC. In making such a request, the institution will provide support by including evidence of a material risk or risk mitigating factor that it believes was not adequately considered. There is no change in the methodology or substance of this information collection. The decrease in total estimated annual burden from 160 hours in 2021 to 80 hours currently is due to a decrease in estimated number or respondents.

3. Title: Minimum Requirements for Appraisal Management Companies.

OMB Number: 3064-0195.

Form Number: None.

Affected Public: Individuals or households; business or other for profit.

Burden Estimate:

Summary of Estimated Annual Burden
[OMB No. 3064-0195]
Information collection (IC) (obligation to respond) | Type of burden (frequency of response) | Number of respondents | Number of responses per respondent | Time per response (HH:MM) | Annual burden (hours)
1. Written Notice of Appraiser Removal from Network or Panel, 12 CFR 323.10 (Mandatory) | Disclosure (On occasion) | 8,481 | 1 | 00:05 | 707
2. Develop and Maintain a State Licensing Program, 12 CFR 323.11(a) and (b) (Mandatory) | Recordkeeping (On occasion) | 1 | 1 | 40:00 | 40
3. AMC Disclosure Requirements (State-regulated AMCs), 12 CFR 323.12 (Mandatory) | Disclosure (On occasion) | 1,206 | 1 | 01:00 | 1,206
4. AMC Disclosure Requirements (Federally regulated AMCs), 12 CFR 323.13(c) (Mandatory) | Disclosure (On occasion) | 38 | 1 | 01:00 | 38
Total Annual Burden (Hours): |  |  |  |  | 1,991
Source: FDIC.

General Description of Collection: This information collection comprises recordkeeping and disclosure requirements under regulations issued by the FDIC, jointly with the Office of the Comptroller of the Currency, the Board of Governors of the Federal Reserve System, the National Credit Union Administration, the Bureau of Consumer Financial Protection, and the Federal Home Finance Agency, that implement the minimum requirements in section 1473 of the Dodd-Frank Wall Street Reform and Consumer Protection Act (Dodd-Frank Act) to be applied by States in the registration and supervision of appraisal management companies (AMCs). The regulations also implement the requirement in section 1473 of the Dodd-Frank Act for States to report to the Appraisal Subcommittee of the Federal Financial Institutions Examination Council the information required by the ASC to administer the new national registry of appraisal management companies (AMC National Registry or Registry). The information collection requirements are established in 12 CFR part 323 of the FDIC's codified regulations. There is no change in the methodology or substance of this information collection. The decrease in total estimated annual burden from 2,457 in 2021 to 1,991 currently is due to a change in the estimated number or respondents.

Request for Comment

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, September 3, 2024.
James P. Sheesley,
Assistant Executive Secretary.

[FR Doc. 2024-20164 Filed 9-6-24; 8:45 am]

BILLING CODE 6714-01-P